DEPARTMENT OF HEALTH AND HUMAN SERVICES

Administration for Community Living

Agency Information Collection Activities; Proposed Extension With No Changes of a Currently Approved Collection; Comment Request; State Program Report

AGENCY: Administration for Community Living, HHS.

ACTION: Notice.

SUMMARY: The Administration for Community Living (ACL) is announcing an opportunity for public comment on the proposed collection of certain information by the agency. Under the Paperwork Reduction Act of 1995 (the PRA), Federal agencies are required to publish notice in the Federal Register concerning each proposed collection of information, including each proposed extension of an existing collection of information, and to allow 60 days for public comment in response to the notice. This notice solicits comments on the information collection requirements relating to an extension with no changes of a currently approved collection of the Title III and VII State Program Report.

DATES: Submit written or electronic comments on the collection of information by July 5, 2016.

ADDRESSES: Submit electronic comments on the collection of information to: Elena.Fazio@acl.hhs.gov.

Submit written comments on the collection of information to: U.S. Department of Health and Human Services: Administration for Community Living, Washington, DC 20201, Attention: Elena Fazio.

FOR FURTHER INFORMATION CONTACT: Elena Fazio by telephone: (202) 795-7343 or by email: Elena.Fazio@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL is publishing notice of the proposed extension with no changes of a currently approved collection of information set forth in this document. With respect to the following collection of information, ACL invites comments on: (1) Whether the proposed collection of information is necessary for the proper performance of ACL's functions, including whether the information will have practical utility; (2) the accuracy of ACL's estimate of the burden of the proposed collection of information, including the validity of the methodology and assumptions used; (3) ways to enhance the quality, utility, and clarity of the information to be collected; and (4) ways to minimize the burden of the collection of information on respondents, including through the use of automated collection techniques when appropriate, and other forms of information technology.

The Older Americans Act (OAA) requires annual program performance reports from States, the District of Columbia, and Territories. In compliance with this OAA provision, ACL developed a State Program Report (SPR) in 1996 as part of its National Aging Program Information System (NAPIS). The SPR collects information about how State Agencies on Aging expend their OAA funds as well as funding from other sources for OAA authorized supportive services. The SPR also collects information on the demographic and functional status of the recipients, and is a key source for ACL performance measurement. This collection is an extension with no changes of the 2013 approved version. The proposed version will be in effect for the FY 2017 reporting year and thereafter. The proposed FY 2017 version may be found on the ACL Web site link entitled Proposed State Program Report (SPR) Form 2016 Extension With No Changes available at http://www.aoa.acl.gov/Program_Results/OAA_Performance.aspx.

ACL estimates the burden of this collection of information as follows: 2750 hours.

Dated: April 28, 2016.
Kathy Greenlee,
Administrator and Assistant Secretary for Aging.

[FR Doc. 2016-10323 Filed 5-2-16; 8:45 am]

BILLING CODE 4154-01P